DEPARTMENT OF THE INTERIOR

National Park Service

Draft General Management Plan Amendment/Environmental Impact Statement, Tumacacori National Historical Park, Arizona

AGENCY: National Park Service, Department of Interior.

ACTION: Notice of Termination of Environmental Impact Statement for the General Management Plan, Tumacacori National Historical Park, in favor of an Environmental Assessment.

SUMMARY: The National Park Service (NPS) is terminating preparation of an environmental impact statement (EIS) for the General Management Plan, Tumacacori National Historical Park, Arizona. A notice of intent to prepare the EIS for the Tumacacori National Historical Park General Management Plan was published in the January 9, 2009, Federal Register (Volume 74, Number 6). The National Park Service has since determined that an environmental assessment (EA) rather than an EIS is the appropriate level of environmental documentation for the plan.

SUPPLEMENTARY INFORMATION: The Tumacacori National Historical Park Boundary Revision Act of 2002 (Pub. L. 107-218) added approximately 310 acres to the boundary of the park to enhance the visitor experience at Tumacacori by developing access to these associated mission resources. A general management plan (GMP) will establish the overall management direction of the park including these new lands for the next 15 to 20 years. The plan was originally scoped as an EIS. Publication of the Federal Register notice was followed with a newsletter to affected agencies and interested parties, and public meetings in Nogales, Tubac, and Tucson, Arizona. Few comments were received during the scoping process. No issues with the potential for controversial impacts were identified for the general management plan.

The NPS planning team has developed three alternative management concepts for the addition lands. The “No-Action” concept would allow for the continuation of existing conditions, and the park would continue to be managed based on the GMP completed in 1996. This 1996 plan did not address management in the lands added to the park in 2002. Current land uses, and activities would remain, and resources would not necessarily be well protected.

Alternative 2 would focus on the restoration/rehabilitation of natural and cultural resources while providing a greater array of visitor opportunities that reflect the complex history of the Pimeria Alta, connections to the larger mission system, the significance of place, and the importance of natural resources to communities over time.

Under Alternative 3, the Santa Cruz River would provide a foundation to connect the three units in Tumacacori National Historical Park to its many communities.

In September 2010, the planning team issued a newsletter that described these alternatives. An open house was also held on October 6, 2010, to talk about the alternatives. Few comments were received on the alternatives, and none of the comments will result in substantive changes in the alternatives or raised significant impacts of the alternatives.

The two action alternatives propose only a few small facilities in areas that have been disturbed in the past. The alternatives focus primarily on improving the visitor experience, in rehabilitating the natural landscape, and in developing partnerships to improve management, resource protection, and cultural connections. Preliminary analysis of the alternatives has revealed no major or significant potential effects on the quality of the human environment, nor any potential for impairment of park resources and values. Most of the impacts of the alternatives are expected to be beneficial, while adverse impacts are expected to be mostly negligible to minor in magnitude, with the remainder being moderate.

For these reasons, the National Park Service determined that the requisite conservation planning and environmental impact analysis necessary for the general management plan can appropriately be completed through preparation of an environmental assessment.

DATES: The draft general management plan/EA is expected to be distributed for public comment in early 2012. The National Park Service will notify the public by mail, local and regional media, Web site, and other means, of public review periods and meetings associated with the draft general management plan/EA; all announcements will include information on where and how to obtain a copy of the EA, how to comment on the EA, and the length of the public comment period. All public review and other written public information will be made available online at http://parkplanning.nps.gov/tuma.

FOR FURTHER INFORMATION CONTACT: Lisa Carrico, Superintendent, Tumacacori National Historical Park, P.O. Box 8067, Tumacacori, Arizona 85640; telephone, (520) 398-2341; or by e-mail at TUMA_Superintendent@nps.gov.

Dated: May 5, 2011.
John Wessels,
Regional Director, Intermountain Region, National Park Service.

[FR Doc. 2011-16643 Filed 6-30-11; 8:45 am]

BILLING CODE 4312-DR-P